DEPARTMENT OF ENERGY

Proposed Agency Information Collection

AGENCY: U.S. Department of Energy.

ACTION: Notice and request for comments.

SUMMARY: The Department of Energy (DOE) has submitted to the Office of Management and Budget (OMB) for clearance, a proposal for collection of information under the provisions of the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before October 29, 2010. If you anticipate difficulty in submitting comments within that period, contact the person listed in ADDRESSES as soon as possible.

ADDRESSES: Written comments may be sent to:

DOE Desk Officer, Office of Information and Regulatory Affairs, Office of Management and Budget, New Executive Office Building, Room 10102, 725 17th Street, NW., Washington, DC 20503; and

Frank Norcross, EE-2K, U.S. Department of Energy, 1000 Independence Ave., SW., Washington, DC 20585-1290, Fax#: (202) 586-1233, frank.norcross@ee.doe.gov.

FOR FURTHER INFORMATION CONTACT: Requests for additional information or copies of the information collection instrument and instructions should be directed to Frank Norcross, EE-2K, U.S. Department of Energy, 1000 Independence Ave., SW., Washington, DC 20585-1290, Fax#: (202) 586-1233, frank.norcross@ee.doe.gov.

Reporting guidance concerning the Energy Efficiency and Conservation Block Grant (EECBG) Program is available for review at the following Web site: http://www1.eere.energy.gov/wip/recovery_act_guidance.html.

SUPPLEMENTARY INFORMATION: This information collection request contains: (1) OMB No. 1910-5150; (2) Information Collection Request Title: “Energy Efficiency and Conservation Block Grant (EECBG) Program Status Report” ; (3) Type of Review: Regular; (4) Purpose: To collect information on the status of grantee activities, expenditures, and results, to ensure that program funds are being used appropriately, effectively and expeditiously (especially important for Recovery Act funds); (5) Annual Estimated Number of Respondents: 2,404; (6) Annual Estimated Number 12,504; (7) Annual Estimated Number of Burden Hours: 154,687; (8) Annual Estimated Reporting and Recordkeeping Cost Burden: $5,525,140.

Authority: Title V, Subtitle E of the Energy Independence and Security Act (EISA), PL 110-140.

Issued in Washington, DC on September 23, 2010.
Cathy Zoi,
Assistant Secretary, Energy Efficiency and Renewable Energy.

[FR Doc. 2010-24404 Filed 9-28-10; 8:45 am]

BILLING CODE 6450-01-P